DEPARTMENT OF TRANSPORTATION

Federal Aviation Administration

[Docket No.: FAA-2024-1738; Summary Notice No. 2024-32]

Petition for Exemption; Summary of Petition Received; Jonathan Ross

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion nor omission of information in the summary is intended to affect the legal status of the petition or its final disposition.

DATES: Comments on this petition must identify the petition docket number and must be received on or before August 12, 2024.

ADDRESSES: Send comments identified by docket number FAA-2024-1738 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Sean O'Tormey at 202-267-4044, Office of Rulemaking, Federal Aviation Administration, 800 Independence Avenue SW, Washington, DC 20591.

This notice is published pursuant to 14 CFR 11.85.

Issued in Washington, DC.
Dan Ngo,
Manager, Part 11 Petitions Branch, Office of Rulemaking.

Petition for Exemption

Docket No.: FAA-2024-1738.

Petitioner: Jonathan Ross.

Section(s) of 14 CFR Affected: § 61.23(a)(3)(iv).

Description of Relief Sought: The petitioner seeks an exemption from § 61.23(a)(3)(iv) of title 14, Code of Federal Regulations, which requires a person to hold a third-class medical certificate when performing the duties as an Examiner in an aircraft when administering a practical test or proficiency check for an airman certificate, rating, or authorization. The petitioner seeks instead to meet the requirements of 14 CFR part 68, commonly referred to as “BasicMed” while conducting operations as a pilot examiner. Section 815 of the FAA Reauthorization Act of 2024 (Pub. L. 118-63) allows an examiner to administer a practical test or proficiency check if such examiner meets the medical qualification requirements under 14 CFR part 68 if the operation being conducted is in a covered aircraft, as such term is defined in § 2307(j) of the FAA Extension, Safety, and Security Act of 2016 (Pub. L. 114-190). Section 815 directs the FAA to issue a final rule to implement the provisions of § 815 not later than three years after the date of enactment of the FAA Reauthorization Act of 2024. The petitioner seeks to use the allowances in § 815 prior to the FAA issuing such a final rule. Further, the petitioner cited in an addendum to the original petition the June 18, 2024, Removal of Check Pilot Medical Certificate Requirement final rule (89 FR 51415) as further justification for grant of this petition.

[FR Doc. 2024-16129 Filed 7-22-24; 8:45 am]

BILLING CODE 4910-13-P